DEPARTMENT OF TRANSPORTATION

Federal Motor Carrier Safety Administration

[Docket No. FMCSA-2010-0288; FMCSA-2012-0281; FMCSA-2014-0306; FMCSA-2014-0307]

Qualification of Drivers; Exemption Applications; Diabetes

AGENCY: Federal Motor Carrier Safety Administration (FMCSA), DOT.

ACTION: Notice of final disposition.

SUMMARY: FMCSA announces its decision to renew exemptions of 71 individuals from its prohibition in the Federal Motor Carrier Safety Regulations (FMCSRs) against persons with insulin-treated diabetes mellitus (ITDM) from operating commercial motor vehicles (CMVs) in interstate commerce. The exemptions enable these individuals with ITDM to continue to operate CMVs in interstate commerce.

DATES: Each group of renewed exemptions was effective on the dates stated in the discussions below and will expire on the dates stated in the discussions below.

FOR FURTHER INFORMATION CONTACT: Ms. Christine A. Hydock, Chief, Medical Programs Division, 202-366-4001, fmcsamedical@dot.gov, FMCSA, Department of Transportation, 1200 New Jersey Avenue SE., Room W64-224, Washington, DC 20590-0001. Office hours are from 8 a.m. to 5:30 p.m., e.t., Monday through Friday, except Federal holidays. If you have questions regarding viewing or submitting material to the docket, contact Docket Services, telephone (202) 366-9826.

SUPPLEMENTARY INFORMATION:

I. Electronic Access

You may see all the comments online through the Federal Document Management System (FDMS) at: http://www.regulations.gov.

Docket: For access to the docket to read background documents or comments, go to http//www.regulations.gov and/or Room W12-140 on the ground level of the West Building, 1200 New Jersey Avenue SE., Washington, DC, between 9 a.m. and 5 p.m., e.t., Monday through Friday, except Federal holidays.

Privacy Act: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

II. Background

On October 20, 2016, FMCSA published a notice announcing its decision to renew exemptions for 71 individuals from the insulin-treated diabetes mellitus prohibition in 49 CFR 391.41(b)(3) to operate a CMV in interstate commerce and requested comments from the public (81 FR 72658). The public comment period ended on November 21, 2016 and no comments were received.

As stated in the previous notice, FMCSA has evaluated the eligibility of these applicants and determined that renewing these exemptions would achieve a level of safety equivalent to or greater than the level that would be achieved by complying with the current regulation 49 CFR 391.41(b)(3).

The physical qualification standard for drivers regarding diabetes found in 49 CFR 391.41(b)(3) states that a person is physically qualified to drive a CMV if that person has no established medical history or clinical diagnosis of diabetes mellitus currently requiring insulin for control.

III. Discussion of Comments

FMCSA received no comments in this preceding.

IV. Conclusion

Based upon its evaluation of the 71 renewal exemption applications and that no comments were received, FMCSA confirms its' decision to exempt the following drivers from the rule prohibiting drivers with ITDM from driving CMVs in interstate commerce in 49 CFR 391.64(3):

As of November 1, 2016, and in accordance with 49 U.S.C. 31136(e) and 31315, the following 27 individuals have satisfied the renewal conditions for obtaining an exemption from the rule prohibiting drivers with ITDM from driving CMVs in interstate commerce. (79 FR 59351; 79 FR 77082):

Noe D. Aguilar (CA)

David N. Banks (NC)

Wayne W. Best (PA)

Gregory K. Blythe (IL)

Justin M. Brown (MT)

Clayton G. Hardwick (KY)

Audie C. Holton (GA)

John F. Kincaid (IL)

Craig T. LaPresti (PA)

Lester M. Lee, Jr. (GA)

Aretha Lewis (VA)

Marvin D. Mathis (NC)

Brian M. McFadden (MA)

Sean K. Myhand (GA)

Glen R. Parry (NM)

George E. Patton (AL)

Michael J. Ramey (CO)

Richard J. Rasmussen (NE)

Mark L. Rigby (UT)

Jeffrey K. Roberts (WI)

Marvin A. Ryan (IN)

Eric R. Storm (GA)

Daniel A. Swain (TX)

Sean P. Thomas (IN)

Glenn R. Tyrrell (MN)

Lewis W. Vaught Jr. (NC)

William L. Wiltrout (PA)

The drivers were included in Docket No. FMCSA-2014-0306. Their exemptions are effective as of November 1, 2016 and will expire on November 1, 2018.

As of November 16, 2016, and in accordance with 49 U.S.C. 31136(e) and 31315, the following 14 individuals have satisfied the renewal conditions for obtaining an exemption from the rule prohibiting drivers with ITDM from driving CMVs in interstate commerce. (75 FR 59788; 75 FR 70077):

Shale W. Anderson (FL)

Charles L. Arnburg (IA)

Ronald D. Ayers (WV)

Garrett D. Couch (MI)

Mark W. Garver (MN)

Donald S. Keller (MI)

Jason M. Luper (MO)

Harold L. Phillips (OK)

Heath A. Senkel (TX)

Roland R. Unruh (KS)

Norman J. VanTuyle II (MI)

John M. Warden (TX)

Donald E. Weadon (MD)

Douglas W. Williams (TN)

The drivers were included in Docket No. FMCSA-2010-0288. Their exemptions are effective as of November 16, 2016 and will expire on November 16, 2018.

As of November 22, 2016, and in accordance with 49 U.S.C. 31136(e) and 31315, the following 21 individuals have satisfied the renewal conditions for obtaining an exemption from the rule prohibiting drivers with ITDM from driving CMVs in interstate commerce. (79 FR 63214; 80 FR 1070):

Jeffrey S. Argabright (OH)

James L. Crane (MS)

Donald L. Feltman (MN)

Benjamin T. Filip (ND)

Harold L. Gomez (LA)

Arthur M. Gonzalez (TX)

William T. Jensen (NJ)

Robert W. Johnson, Sr. (NY)

Joseph J. Karas (NJ)

Randy C. Lee (NY)

John R. Miller II (OR)

Robert A. Nicolai (MO)

William P. Pearson, II (WI)

Alan M. Primus (IA)

Danny L. Reimers (NM)

Michael L. Reynolds (NC)

Samuel H. Schmidt (MN)

Timothy W. Selk (AK)

Dennis J. Stanley (WI)

Steven M. Weimer (PA)

Michael L. Westbury (SC)

The drivers were included in Docket No. FMCSA-2014-0307. Their exemptions are effective as of November 22, 2016 and will expire on November 22, 2018.

As of November 26, 2016, and in accordance with 49 U.S.C. 31136(e) and 31315, the following 9 individuals have satisfied the renewal conditions for obtaining an exemption from the rule prohibiting drivers with ITDM from driving CMVs in interstate commerce. (77 FR 59447; 77 FR 70529):

Charles E. Castle (OH)

Larry W. Dearing (IN)

Bradley E. DeWitt (WA)

Leonard R. Dobosenski (MN)

Michael L. Kiefer (SD)

Marcus J. Kyle (IA)

Robert C. Moore (PA)

Jedediaha C. Record (WY)

Jessie L. Webster (KY)

The drivers were included in Docket No. FMCSA-2012-0281. Their exemptions are effective as of November 26, 2016 and will expire on November 26, 2018.

Each of the 71 drivers in the aforementioned groups qualifies for a renewal of the exemption. They have maintained their required medical monitoring and have not exhibited any medical issues that would compromise their ability to safely operate a CMV during the previous 2-year exemption period.

These factors provide an adequate basis for predicting each driver's ability to continue to drive safely in interstate commerce. Therefore, FMCSA concludes that extending the exemption for each of the 71 drivers for a period of two years is likely to achieve a level of safety equal to that existing without the exemption. The drivers were included in docket numbers FMCSA-2010-0288; FMCSA-2012-0281; FMCSA-2014-0306; FMCSA-2014-0307.

In accordance with 49 U.S.C. 31315, each exemption will be valid for two years from the effective date unless revoked earlier by FMCSA. The exemption will be revoked if the following occurs: (1) The person fails to comply with the terms and conditions of the exemption; (2) the exemption has resulted in a lower level of safety than was maintained prior to being granted; or (3) continuation of the exemption would not be consistent with the goals and objectives of 49 U.S.C. 31136 and 31315.

Issued on: December 8, 2016.
Larry W. Minor,
Associate Administrator for Policy.

[FR Doc. 2016-30589 Filed 12-19-16; 8:45 am]

BILLING CODE 4910-EX-P